ELECTION ASSISTANCE COMMISSION

Sunshine Act Meetings

Notice of Election Data Summit

TIME AND DATE: The Data Summit will be held on Thursday, June 27, 2019, from 9:00 a.m. until 5:00 p.m., EST time.

PLACE: The Russell Senate Office Building, Room 301, 2 Constitution Ave. NE, Washington, DC 20002.

STATUS: The event is open to the public and will be livestreamed on the EAC's website.

MATTERS TO BE CONSIDERED: The Data Summit coincides with the release of the 2018 Election Administration and Voting Survey (EAVS) and will feature expert speakers examining how to use data to help America vote. The day's keynote speakers and panel discussions will include a look at data within the newly released biennial EAVS survey, as well as broader panel conversations covering issues such as how data can be used to address election security, improve voter registration, modernize election management systems, and enact best practices for serving voters covered under the Uniformed and Overseas Citizens Absentee Voting (UOCAVA) Act. The final agenda will be available at www.eac.gov.

CONTACT PERSON FOR MORE INFORMATION: For additional Information Contact: Brenda Bowser Soder—202-897-9285; https://www.eac.gov/contact/.

* * * * *

Clifford Tatum,
General Counsel, U.S. Election Assistance Commission.

[FR Doc. 2019-13151 Filed 6-18-19; 11:15 am]

BILLING CODE 6820-KF-P